SMALL BUSINESS ADMINISTRATION

Senior Executive Service, Performance Review Board Members

ACTION: Notice of members of the FY 2002 Performance Review Board.

SUMMARY: Section 4314(c)(4) of Title 5, U.S.C. requires each agency to publish notification of the appointment of individuals who may serve as members of that Agency's Performance Review Boards (PRB). The following have been designated to serve on the FY 2002 Performance Review Boards for the U.S. Small Business Administration:

1. John Whitmore, Chief of Staff;

2. Michael Barrera, National Ombudsman;

3. Lloyd Blanchard, Chief Operating Officer;

4. Richard Spence, Assistant Administrator for Congressional and Legislative Affairs;

5. Kaaren Street, Associate Deputy Administrator for Entrepreneurial Development;

6. Monika Edwards Harrison, Assistant Administrator for Human Resources;

7. James Rivera, Associate Administrator for Financial Assistance;

8. Francisco Marrero, District Director, South Florida;

9. Alberto Alvarado, District Director, Los Angeles;

10. Linda Williams, Associate Administrator for Government Contracting;

11. Eric Benderson, Associate General Counsel for Litigation.

Dated: December 2, 2002.
Hector V. Barreto,
Administrator.

[FR Doc. 02-30904 Filed 12-5-02; 8:45 am]

BILLING CODE 8025-01-M